DEPARTMENT OF DEFENSE

Office of the Secretary

[Docket ID: DoD-2014-OS-0093]

Privacy Act of 1974; System of Records

AGENCY: Office of the Inspector General, DoD.

ACTION: Notice to alter a System of Records.

SUMMARY: The Office of the Inspector General proposes to alter a system of records, CIG-04, Case Reporting and Information Management System Records, in its inventory of record systems subject to the Privacy Act of 1974, as amended. This system of records contains open and closed case listings, statistical reports, and records to support the investigative process such as suitability, loyalty, eligibility, and general trustworthiness of individuals for access or continued access to classified information and suitability for access to government facilities.

DATES: Comments will be accepted on or before July 16, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mark Dorgan, DoD IG FOIA/Privacy Office, Department of Defense, Inspector General, 4800 Mark Center Drive, Alexandria, VA 22350-1500 or telephone: (703) 699-5680.

SUPPLEMENTARY INFORMATION: The Office of the Inspector General notices for systems of records subject to the Privacy Act of 1974 (5 U.S.C. 552a), as amended, have been published in the Federal Register and are available from the address in FOR FURTHER INFORMATION CONTACT or from the Defense Privacy and Civil Liberties Web site at http://dpclo.defense.gov/.

The proposed systems reports, as required by 5 U.S.C. 552a(r) of the Privacy Act, as amended were submitted on June 9, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 10, 2014.
Aaron Siegel,
Alternate OSD Federal Register Liaison Officer, Department of Defense.

CIG-04

System Name:

Case Reporting and Information Management System Records (February 10, 2009, 74 FR 6587).

Changes:

* * * * *

System location:

Delete entry and replace with “Primary location: Office of Inspector General, Department of Defense, Office of the Deputy Inspector General for Investigations, Defense Criminal Investigative Service (DCIS), 4800 Mark Center Drive, Suite 14G25, Alexandria, VA 22350-1500.

Decentralized locations:

Office of the Deputy Inspector General for Investigations/Defense Criminal Investigative Service Field Offices, Resident Agencies, and Posts of Duty have temporary control over portions of the records.”

* * * * *

Categories of records in the system:

Delete entry and replace with “Individual's name, Social Security Number (SSN), driver's license, alien registration number, passport number, gender, race/ethnicity, birth date, mailing home address, mailing office address, home phone number, office phone numbers, personal email address, business email address, place of birth, marital status, employment information, law enforcement data, records of investigations to include reports of investigation, information reports and case summaries which are being or have been conducted by the OIG.”

* * * * *

Purpose(s):

Delete entry and replace with “The file contains open and closed case listings, statistical reports, and records to support the investigative process. Users are OIG employees and contractors supporting the OIG mission. The records in this system are used for the following purposes: Suitability, loyalty, eligibility, and general trustworthiness of individuals for access or continued access to classified information and suitability for access to government facilities or industrial firms engaged in government projects/contracts; contractor responsibility and suspension/debarment determinations; suitability for awards or similar benefits; use in current law enforcement investigation or program of any type; use in judicial or adjudicative proceedings including litigation or in accordance with a court order; to identify offenders, to provide facts and evidence upon which to base prosecution, to provide information to other investigative elements of the Department of Defense having jurisdiction over the substance of the allegations or a related investigative interest in criminal law enforcement investigations including statutory violations, counter-intelligence, counter-espionage and counter-terrorist activities and other security matters; to effect corrective administrative action and to recover money and property which has been wrongfully used or misappropriated; to make decisions affecting personnel actions concerning members of the Armed Forces and or Federal employees; and to respond to other complaint investigations and Congressional inquiries as appropriate.”

* * * * *

Retrievability:

Delete entry and replace with “Name, SSN, date of birth, email address, phone number, street address, driver's license number, alien registration number, and passport number.”

* * * * *

System manager(s) and address:

Delete entry and replace with “Director, Internal Operations Directorate, Defense Criminal Investigative Service, Office of the Inspector General for Investigations, Office of the Inspector General of the Department of Defense, 4800 Mark Center Drive, Suite 14G25, Alexandria, VA 22350-1500.”

Notification procedures:

Delete entry and replace with “Individuals seeking to determine whether information about themselves is contained in this system should address written inquiries to the Chief, Freedom of Information Act Requester Service Center/Privacy Act Office, Assistant Inspector General for Communications and Congressional Liaison, Office of the Inspector General, DoD, 4800 Mark Center Drive, Alexandria, VA 22350-1500.

For verification purposes, individuals shall provide their full name, address, any details which may assist in locating records of the individual, and their signature.

In addition, the requester must provide a notarized statement or a signed declaration made in accordance with 28 U.S.C. 1746, in the following format:

“If executed outside the United States:

`I declare under penalty of perjury under the laws of the United States of America that the foregoing is true and correct. Executed on (date).' (Signature).

If executed within the United States, its territories, possessions, or commonwealths:

`I declare under penalty of perjury that the foregoing is true and correct. Executed on (date).' (Signature).”

Record access procedures:

Delete entry and replace with “Individuals seeking access to information about themselves is contained in this system should address written inquiries to the Chief, Freedom of Information Act Requester Service Center/Privacy Act Office, Assistant Inspector General for Communications and Congressional Liaison, Office of the Inspector General, DoD, 4800 Mark Center Drive, Alexandria, VA 22350-1500.

For verification purposes, individuals shall provide their full name, address, any details which may assist in locating records of the individual, and their signature.

In addition, the requester must provide a notarized statement or a signed declaration made in accordance with 28 U.S.C. 1746, in the following format:

“If executed outside the United States:

`I declare under penalty of perjury under the laws of the United States of America that the foregoing is true and correct. Executed on (date).' (Signature).

If executed within the United States, its territories, possessions, or commonwealths:

`I declare under penalty of perjury that the foregoing is true and correct. Executed on (date).' (Signature).”

* * * * *

[FR Doc. 2014-13910 Filed 6-13-14; 8:45 am]

BILLING CODE 5001-06-P